NUCLEAR REGULATORY COMMISSION

[Docket No. 030-02489]

Notice of Availability of Environmental Assessment and Finding of No Significant Impact for License Amendment for Princeton Healthcare System's Facility in Princeton, NJ

AGENCY: Nuclear Regulatory Commission.

ACTION: Notice of availability.

FOR FURTHER INFORMATION CONTACT: Sandra Gabriel, Medical Branch, Division of Nuclear Materials Safety, Region I, 475 Allendale Road, King of Prussia, Pennsylvania 19406, telephone (610) 337-5182, fax (610) 337-5269; or by e-mail: slg2@nrc.gov.

SUPPLEMENTARY INFORMATION:

I. Introduction

The Nuclear Regulatory Commission (NRC) is issuing a license amendment to Princeton HealthCare System for Materials License No. 29-06750-01, to authorize release of its facility at Princeton House Behavioral Health, 905 Herrontown Road in Princeton, New Jersey for unrestricted use. NRC has prepared an Environmental Assessment (EA) in support of this action in accordance with the requirements of 10 CFR Part 51. Based on the EA, the NRC has concluded that a Finding of No Significant Impact (FONSI) is appropriate. The amendment will be issued following the publication of this Notice.

II. EA Summary

The purpose of the action is to authorize the release of the licensee's facility at Princeton House Behavioral Health, 905 Herrontown Road in Princeton, New Jersey, for unrestricted use. Princeton HealthCare System was authorized by NRC from July 21, 1993, to use radioactive materials at this site for research and development involving absorption, dilution, metabolism, and excretion studies in humans, in association with Bristol Myers Squibb. In 1998, Princeton HealthCare System ceased operations with licensed materials at the Princeton House Behavioral Health site, and in 2004 requested that NRC release the facility for unrestricted use. Princeton HealthCare System has conducted surveys of the facility and determined that the facility meets the license termination criteria in Subpart E of 10 CFR Part 20.

The NRC staff has prepared an EA in support of the license amendment. The facility was remediated and surveyed prior to the licensee requesting the license amendment. The NRC staff has reviewed the information and final status survey submitted by Princeton HealthCare System. Based on its review, the staff has determined that there are no additional remediation activities necessary to complete the proposed action. Therefore, the staff considered the impact of the residual radioactivity at the facility and concluded that since the residual radioactivity meets the requirements in Subpart E of 10 CFR Part 20, a Finding of No Significant Impact is appropriate.

III. Finding of No Significant Impact

The staff has prepared the EA (summarized above) in support of the license amendment to release the facility at Princeton House Behavioral Health, 905 Herrontown Road Way in Princeton, New Jersey, for unrestricted use. The NRC staff has evaluated Princeton HealthCare System's request and the results of the surveys and has concluded that the completed action complies with the criteria in Subpart E of 10 CFR Part 20. On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment (ML050900333), letter dated November 24, 2004 with attached closeout survey results (ML043410218), and letter dated March 14, 2005 (ML050830030). Persons who do not have access to ADAMS or who encounter problems in accessing the documents located in ADAMS, should contact the NRC PDR Reference staff by telephone at (800) 397-4209 or (301) 415-4737, or by email to pdr@nrc.gov. These documents may also be examined, and/or copied for a fee, at the NRC PDR, located at One White Flint North, 11555 Rockville Pike (First Floor), Rockville, MD 20852. The PDR is open from 7:45 a.m. to 4:15 p.m., Monday through Friday, except on Federal Holidays; and at the Region I Office, 475 Allendale Road, King of Prussia, Pennsylvania 19406.

Dated at King of Prussia, Pennsylvania this 10th day of May, 2005.
For the Nuclear Regulatory Commission.
Pamela J. Henderson,
Chief, Medical Branch, Division of Nuclear Materials Safety, Region I.

[FR Doc. E5-2509 Filed 5-18-05; 8:45 am]

BILLING CODE 7590-01-P